DEPARTMENT OF HEALTH AND HUMAN SERVICES

Centers for Disease Control and Prevention

[30Day-09-09AR]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

STD Surveillance Network (SSuN)-NEW- National Center for HIV/AIDS, Viral Hepatitis, Sexually Transmitted Diseases, and Tuberculosis Elimination Programs (NCHHSTP), Centers for Disease Control and Prevention (CDC).

Background and Brief Description

The purpose of the proposed study is to improve the capacity of national, State, and local STD programs to detect, monitor, and respond rapidly to trends in STDs through enhanced collection, reporting, analysis, visualization and interpretation of disease information. The SSuN Project will be an active STD sentinel surveillance network comprised of 12 surveillance sites around the United States. SSuN will use two surveillance strategies to collect information. The first is a STD clinic-based surveillance which will extract data from existing electronic medical records for all patient visits at participating STD clinics over the 3 years. The second is a population-based surveillance in which a sample of individuals reported with gonorrhea to the 12 SSuN state or city health departments are interviewed using locally designed interview templates.

For the clinic-based surveillance, the specified data elements are abstracted on a quarterly basis from existing electronic medical records for all patient visits to participating clinics. Data in the electronic medical record may have been collected at time of registration, during the clinic encounter, or through laboratory testing. For the population-based STD surveillance, the results of interviews will be entered into a developed Microsoft Access database that will be adapted locally for each clinic. High quality, informative, and timely surveillance data are necessary to guide STD programs so interventions are designed and implemented appropriately. Furthermore, surveillance data are necessary for understanding the impact of STD interventions based on the epidemiology of each STD.

This information is being collected to establish an integrated network of sentinel STD clinics and health departments to inform and guide national programs and policies for STD control in the US. It will improve the capacity of national, state, and local STD programs to detect, monitor, and respond to established and emerging trends in STDs, HIV, and viral hepatitis. SSuN will help identify and evaluate the effectiveness of public health interventions to reduce STD morbidity.

The SSuN surveillance platform allows CDC to establish and maintain common standards for data collection, transmission, and analysis, and allows CDC to build and maintain STD surveillance expertise in 12 surveillance areas. Such common systems, established mechanisms of communication, and in-place expertise are all critical components for timely, flexible, and high quality surveillance.

There is no cost to respondents other than their time. The total estimated annual burden hours are 432.

Estimated Annualized Burden Hours
Types of respondent | Number of respondents | Number of responses per respondent | Average burden per response (in hours)
SSuN site | 12 | 4 | 2
Gonorrhea Case | 2880 | 1 | 7/60

Dated: August 28, 2009.
Maryam I. Daneshvar,
Acting Reports Clearance Officer, Centers for Disease Control and Prevention.

[FR Doc. E9-21286 Filed 9-2-09; 8:45 am]

BILLING CODE 4163-18-P